DEPARTMENT OF THE INTERIOR

Bureau of Indian Affairs

Vacancies for Committee Members on the Transportation Equity Act for the 21st Century (TEA-21) Negotiated Rulemaking Committee

AGENCY: Bureau of Indian Affairs, Interior.

ACTION: Notice.

SUMMARY: There are several vacancies on the committee that the Department has convened to negotiate regulations to implement the Transportation Equity Act for the 21st Century. We propose filling these vacancies by naming current committee alternates and other qualified individuals. Tribes, tribal organizations, and individual tribal members who believe that their interests will not be adequately represented by the persons identified in this notice may submit comments on the proposed selection, apply for membership on the committee, or submit other nominations.

DATES: Comments on this notice and nominations for committee members must be received no later than February 13, 2003.

ADDRESSES: Send nominations and comments to Mr. LeRoy Gishi, Chief, Division of Transportation, Bureau of Indian Affairs, U.S. Department of the Interior, MS-4058-MIB, 1849 C Street NW., Washington, DC 20240; or fax to (202) 208-4696. Nominations and comments received by BIA will be available for inspection at the address listed above from 9 a.m. to 4 p.m., Monday through Friday.

FOR FURTHER INFORMATION CONTACT: Mr. LeRoy Gishi, (202) 208-4359.

SUPPLEMENTARY INFORMATION: On February 11, 1999, in a Federal Register notice (64 FR 6825), the Secretary of the Interior (Secretary) announced selection of members of the TEA-21 Negotiated Rulemaking Committee to develop proposed regulations for the Indian Reservation Roads program under the Negotiated Rulemaking Act and Section 1115 of TEA-21. The Secretary selected two primary tribal Committee representatives and two tribal alternates from nominees from tribes in each of the twelve Bureau of Indian Affairs (BIA) Regions. In addition, the Secretary selected five additional primary tribal Committee members from various regions to balance interests on the Committee and selected eleven Federal representatives. The Committee began negotiations on the proposed regulations in March 1999 and the Secretary published proposed regulations in August 2002.

The Committee must reconvene in early 2003 to consider public comments and make recommendations for final regulations. During the tenure of the Committee, some primary tribal Committee members have become unable to continue to serve on the Committee. In order to continue to fulfill the requirements of TEA-21 for tribal Committee membership, the Secretary must appoint representatives to fill tribal member vacancies on the Committee. Tribes, tribal organizations, and individual tribal members who believe that their interests will not be adequately represented by the persons identified in this notice may submit comments on the proposed selection, apply for membership on the committee, or submit other nominations by the date in the “DATES” section.

The Secretary is required to use a negotiated rulemaking process to issue regulations governing the Indian Reservation Roads program and establish a formula for allocating all contractible funds among Indian tribes for fiscal year 2000 and subsequent years (23 U.S.C. Section 202, as amended by TEA-21 (Pub. L. 105-178, 112 Stat. 154.)) The Secretary is also required to:

(1) Apply the procedures of negotiated rulemaking under subchapter III of chapter 5 of Title 5 (the Negotiated Rulemaking Act) in a manner that reflects the unique government-to-government relationship between the Indian tribes and the United States; and

(2) Ensure that the membership of the committee includes only representatives of the Federal Government and of geographically diverse small, medium, and large Indian tribes. For more information on the TEA-21 Negotiated Rulemaking Committee see 67 FR 51328, dated August 7, 2002.

Based upon recommendations for proposed regulations and a funding formula the TEA-21 Negotiated Rulemaking Committee provided to the Secretary, the Secretary published a Notice of Proposed Rulemaking (NPRM) on August 7, 2002 (67 FR 51328). The public comment period for the NPRM ended on November 7, 2002. The Committee must now reconvene to consider the public comments and make recommendations to the Secretary for final regulations and a funding formula. The Secretary must fill the primary tribal member vacancies on the Committee to ensure that tribal interests on the Committee, required by TEA-21, are balanced to include:

(1) Members of geographically diverse small, medium, and large Indian tribes;

(2) Members of tribes identified as Direct Services, Self-Determination, and Self-Governance tribes; and

(3) Members of tribes with various levels and types of experience in the diverse concerns of transportation development and management (e.g., jurisdictional issues, complexity of transportation systems, climatic concerns, environmental issues, geographic isolation, etc.).

The Secretary proposes to fill primary tribal Committee membership vacancies by naming current tribal Committee alternates where alternates have participated in the Committee negotiations and, where those alternates are not available, naming other qualified individuals to fill vacancies of primary tribal Committee members. Current primary tribal Committee members who were originally selected to serve on the Committee are designated with an asterisk (*). The Secretary proposes that the TEA-21 Negotiated Rulemaking Committee be comprised of the following primary and alternate tribal Committee members when it reconvenes:

Representatives of Tribes, Tribal Organizations, and Individual Indians

Great Plains Region

*Pete Red Tomahawk, Transportation Planner, Standing Rock Sioux Tribe, Fort Yates, ND

Sherman Wright, Transportation Planner, Rosebud Sioux Tribe, Rosebud, SD

Alternate: Gilbert Red Dog, Northern Plains Transportation Advisory Council Member, Cheyenne River Sioux Tribe, Eagle Butte, South Dakota

Southwest Region

Edmond Gonzalez, Civil Engineer, Pueblo of San Ildefonso, Albuquerque, NM

Shannon McKenna, Lieutenant Governor, Pueblo of Nambe, Albuquerque, NM

*Edward Little, Mescalero Apache Tribe, Mescalero, NM

Southern Plains Region

*Chuck Tsoodle, Tribal Roads & Transit Director, Kiowa Tribe of Oklahoma, Carnegie, OK

*Tim Ramirez, Tribal Roads Director, Prairie Band of Potawatami Nation, Mayetta, KS

Alternates: Bill Tall Bear, Program Coordinator-Transportation Planner, Cheyenne-Arapaho Tribes of Oklahoma, Concho, OK

Ray Ball, Transportation Planner, Kaw Nation, Kaw City, Oklahoma

Rocky Mountain Region

*John Smith, Transportation Planner, Shoshone & Arapaho Tribes, Fort Washakie, WY

Caleb Shields, Chief of Staff, Ft. Peck Tribe, Poplar, MT

Alternates: John Healy, Transportation Planner, Fort Belknap Tribes, Harlem, MT

Cordell Ringel, Engineer, Montana-Wyoming Tribal Leaders Council, Billings, MT

Eastern Region

*Eddie Tullis, Chairman, Poarch Band of Creek Indians, Atmore, AL

*Jody Clark, Transportation Manager, Seneca Nation of Indians, Salamanca, NY

Alaska Region

*Loretta Bullard, President, Kawarek, Inc., Nome, AK

*Al Ketzler Sr., Fairbanks, AK

*Gideon James, Tribal Operations Director, Native Village of Venetie Tribal Government, Venetie, AK

Alternates: Dugan Nielsen, Director, Land & Resources, Bristol Bay Native Association, Dillingham, AK

Dan Moreno, Transportation Planner, Sitka Tribe, Juneau, AK

Midwest Region

*Jim Garrigan, Director of Tribal Roads, Red Lake Band of Chippewa Indians, Red Lake, MN

*Mike Christensen, Tribal Roads Committee, Lac Du Flambeau Chippewa, Lac du Flambeau, WI

Alternate: Bruce Danforth, Public Works Area Manager, Oneida Nation, Oneida, WI

Eastern Oklahoma Region

*Robert Endicott, Transportation Planner, Cherokee Nation, Tahlequah, OK

William McKee Eastern Shawnee of Oklahoma, Miami, OK

Alternate: Braven Dyer, Transportation Director, Chickasaw Nation, Ada, Oklahoma

Navajo Region

*Sampson Begay, Tribal Council, Navajo Nation, Window Rock, AZ

Lawrence Morgan, Tribal Council, Navajo Nation, Window Rock, AZ

Western Region

*Robyn Burdette, Chairperson, Summit Lake Paiute Tribe, Winnemucca, NV

Rita Martinez, Councilwoman, Tohono O'odham Nation, Sells, AZ

*Alex Cabillo Hualapai Tribe, Peach Springs, AZ

Northwest Region

*Michael Marchand, Colville Business Council, Confederated Tribes of Colville Indians, Nespelem, WA

*Dave Whitener, Squaxin Island Tribe, Shelton, WA

*Della Cree, Community Development Planner, Nez Perce Tribe, Lapwai, ID

Alternates: Andy Kampkoff, Construction Manager, Lummi Indian Business Council, Bellingham, WA

Mike Clement, Economic Development Manager, Confederated Tribes of Warm Springs, Warm Springs, OR

Pacific Region

*Vlayn McCovey, Yurok Tribe, Eureka, CA

*Mervin Hess, Vice Chairman, Bishop Indian Tribe, Bishop, CA

Alternate: Randolph Feliz, Tribal Vice Chair Hopland Band of Pomo Indians, Hopland, CA

In addition, the Secretary announces the following Federal Committee representatives:

Robert Baracker, Designated Federal Official, BIA Southwest Regional Office

LeRoy Gishi, Chief, BIA Division of Transportation

Justin P. Patterson, Consultant, Department of the Interior (Retired)

Mike Black, Regional Road Engineer, Rocky Mountain Region

Robert Martin, Regional Road Engineer, BIA Alaska Region

Harold Riley, Road Engineer, BIA Navajo Region

Todd Kennedy, Regional Road Engineer, BIA Midwest Region

Mike Smith, Director, BIA Office of Tribal Services

Paul Los, Program Coordinator, Federal Highway Administration, Department of Transportation

Vivian Philbin, Attorney, Federal Highway Administration, Department of Transportation

Robert Sparrow, Federal Lands Highway Program Engineer, Federal Highway Administration, Department of Transportation

If you believe that tribal interests will not be adequately represented by any tribal person identified in the updated tribal committee membership, you may apply or nominate another person for membership on the committee. Each application or nomination must be received by the date above and must include:

(1) The name of the nominee, business address, and telephone and fax numbers.

(2) The tribal interest(s) to be represented by the nominee (based on the requirements of TEA-21 listed above);

(3) Evidence that the applicant or nominee is authorized to represent parties related to the interest(s) the person proposed to represent;

(4) The reasons that the proposed members of the committee identified in this notice do not represent the interests of the person submitting the application or nomination; and

(5) Your name, address, telephone number, and the name of the tribe or tribal organization with which you are affiliated.

Dated: January 17, 2003.
Aurene M. Martin,
Acting Assistant Secretary—Indian Affairs.

[FR Doc. 03-2043 Filed 1-28-03; 8:45 am]

BILLING CODE 4310-LY-P